NATIONAL COUNCIL ON DISABILITY

Sunshine Act Meetings

TIME AND DATE: The Members of the National Council on Disability (NCD) will hold a two-day in-person Council meeting on Wednesday, July 12, 2023, 9 a.m.-5:15 p.m. Eastern Daylight Time (EDT) and Thursday, July 13, 2023, 10 a.m.-12:30 p.m., EDT.

PLACE: This meeting will occur at the Willard Intercontinental Hotel, 1401 Pennsylvania Avenue NW, Washington, DC 20004. Attendees can use the accessible entrance to the hotel, located to the left of the main entrance and next to Café du Parc on Pennsylvania Avenue. The event will also be streamed live via Zoom videoconference for those not able to attend in person. Registration is not required. Details are available on NCD's event page at https://ncd.gov/events/2023/upcoming-council-meeting.

MATTERS TO BE CONSIDERED:

Day 1—Following welcome remarks and introductions, a panel will present on addressing health disparities through disability clinical care competency training; then a brief break; followed by a panel discussion regarding responding to health disparities of people with disabilities; an hour public comment session on experiences with healthcare barriers and bias; a lunch break; a presentation on NCD's project underway regarding germline editing and fetal medicine; a presentation on NCD's project underway on the inclusion of people with disabilities in clinical trials; and a presentation on NCD's 2023 progress report that is underway on income limits and asset limitations; followed by adjournment.

Day 2—Following welcome remarks and introductions, the Administration, Finance, and Operations team will provide updates to Council Members; followed by a Legislative Affairs and Outreach team update; a Policy team update; the Chairman's report; Executive Committee Report, including bylaws vote; Council Member report outs on community outreach; reminders on NCD's travel reimbursement process; and any old or new business, before adjourning.

Agenda: The times provided below are approximations for when each agenda item is anticipated to be discussed (all times Eastern Daylight Time):

Wednesday, July 12, 2023

9:00-9:05 a.m.—Welcome Greetings, Roll Call, Acceptance of Agenda

9:05-9:15—Chairman's Welcome and Framing Remarks for Meeting

9:15-10:45 a.m. Addressing Health Disparities through Disability Clinical Care Competency Training, Q&A from Council Members

10:45-11:00 a.m.—BREAK

11:00 a.m.-12:30 p.m.—Responding to Health Disparities of People with Disabilities—A Collaborative Effort

12:30-1:30 p.m.—Public Comment: Experiences with Healthcare Barriers and Bias

1:30-3:00 p.m. LUNCH BREAK

3:00-3:45 p.m.—Germline editing and fetal medicine project presentation, Q&A with Members

3:45-4:30 p.m.—Clinical trials report presentation, Q&A with Members

4:30-5:15 p.m.—NCD's 2023 Progress Report on asset limitations presentation, Q&A with Members

5:15 p.m.—Adjourn

Thursday, July 13, 2023

10:00-10:10 a.m.—Welcome and Call to Order, Roll Call, Approval of May 4 Council meeting minutes

10:10-10:20 a.m.—Administration, Finance, and Operations team update

10:20-10:30 a.m.—Legislative Affairs and Outreach team update

10:30 a.m.—11:00 a.m.—Policy team update

11:00-11:10 a.m.—Chairman's Report

11:10-11:40 a.m.—Executive Committee Report, including bylaws vote

11:40 a.m.—12:10 p.m.—Council Member report outs on community outreach/input

12:10-12:20 p.m.—AFO team reminders on reimbursement process

12:20-12:30 p.m.—Old/New Business

12:30 p.m.—Adjourn

Public Comment: Your participation during the public comment period provides an opportunity for us to hear from you—individuals, businesses, providers, educators, parents and advocates. Your comments are important in bringing to the Council's attention and issues and priorities of the disability community.

For the July 12 Council meeting, NCD will have an extended public comment period of one hour and requests comments from the public regarding experiences with healthcare barriers and bias for people with disabilities. Additional information on specifics of the topic is available on NCD's public comment page at https://ncd.gov/public-comment.

The Council will prioritize in-person commenters, but as time permits, will also receive public comment by video or audio over Zoom, and always accepts advance public comments via email. Due to the hybrid nature of the event, in-person presentations will be given priority.

To provide public comment during an NCD Council Meeting in any form (in-person or by Zoom), NCD now requires advanced registration by sending send an email to PublicComment@ncd.gov with the subject line “Public Comment” and your name, organization, state, and topic of comment included in the body of your email. Deadline for registration is July 11, 8:00 p.m. EDT. Please indicate if you are providing the comment in-person, over Zoom, or only submitting via email. All individuals desiring to make public comment are strongly encouraged to read NCD's guidelines for public comment in advance of the meeting at: https://ncd.gov/public-comment.

While public comment can be submitted on any topic over email, comments during the meeting should be specific to experiences with healthcare barriers and bias for people with disabilities.

CONTACT PERSON FOR MORE INFORMATION: Nicholas Sabula, Public Affairs Specialist, NCD, 1331 F Street NW, Suite 850, Washington, DC 20004; 202-272-2004 (V), or nsabula@ncd.gov.

Accommodations: ASL Interpreters will be provided in-room and included during the live streamed meeting, and CART has been arranged for this meeting and will be embedded into the Zoom platform as well as available via streamtext link. The web link to access CART (in English) is: https://www.streamtext.net/player?event=NCD.

If you require additional accommodations, please notify Stacey Brown by sending an email to sbrown@ncd.gov as soon as possible and no later than 24 hours prior to the meeting.

Due to last-minute confirmations or cancellations, NCD may substitute items without advance public notice.

Dated: June 27, 2023.
Anne C. Sommers McIntosh,
Executive Director.

[FR Doc. 2023-14022 Filed 6-28-23; 11:15 am]

BILLING CODE 8421-02-P